DEPARTMENT OF LABOR

Employment and Training Administration

[TA-W-59,445]

Ford Motor Company; Vehicle Operations; Twin Cities Assembly Plant; St. Paul, MN; Notice of Termination of Investigation

Pursuant to section 221 of the Trade Act of 1974, as amended, an investigation was initiated on May 23, 2006 in response to a petition filed by a state workforce representative on behalf of workers at Ford Motor Company, Vehicle Operations, Twin Cities Assembly Plant, St. Paul, Minnesota.

The petitioner has requested that the petition be withdrawn. Consequently, the investigation has been terminated.

Signed at Washington, DC this 22nd day of June, 2006.
Elliott S. Kushner,
Certifying Officer, Division of Trade Adjustment Assistance.

[FR Doc. E6-11856 Filed 7-24-06; 8:45 am]

BILLING CODE 4510-30-P